ENVIRONMENTAL PROTECTION AGENCY

40 CFR Parts 51, 52, 96, and 97

[FRL-7056-9]

Availability of Documents for the Response to the Remands in the Ozone Transport Cases Concerning the Method for Computing Growth for Electric Generating Units; Extension of Comment Period

AGENCY: Environmental Protection Agency (EPA).

ACTION: Notice to extend comment period.

SUMMARY: In response to requests from the public, the EPA is extending the comment period for the notice of data availability for the Nitrogen Oxides State Implementation Plan Call ( NOX SIP Call) and the Section 126 Rule that was published on August 3, 2001 (66 FR 40609) for an additional 15 days. The comment period will now end on September 19, 2001.

DATES: The EPA is establishing a comment period ending on September 19, 2001. Comments must be postmarked by the last day of the comment period and sent directly to the Docket Office listed in ADDRESSES (in duplicate form if possible).

ADDRESSES: Comments may be submitted to the Office of Air and Radiation Docket and Information Center (6102), Attention: Docket No. A-96-56 for the NOX SIP Call and Docket No. A-97-43 for the Section 126 Rule, U.S. Environmental Protection Agency, 1200 Pennsylvania Avenue NW, Washington, DC 20460, telephone (202) 260-7548. The EPA encourages electronic submission of comments following the instructions under SUPPLEMENTARY INFORMATION of this document. The e-mail address is A-and-R-Docket@epa.gov. No confidential business information should be submitted through e-mail.

Copies of all of the documents containing the new data being made available have been placed in the docket for the NOX SIP Call rule, Docket No. A-96-56, and have been incorporated by reference in the docket for the Section 126 Rule, Docket No. A-97-43. These new documents, and other documents relevant to these rulemakings, are available for inspection at the Docket Office, located at 401 M Street SW, Room M-1500, Washington, DC 20460, between 8 a.m. and 5:30 p.m., Monday through Friday, excluding legal holidays. A reasonable fee may be charged for copying. Some of the documents have also been made available in electronic form at the following EPA website: http://www.epa.gov/airmarkets/fednox/126noda/.

FOR FURTHER INFORMATION CONTACT: Questions concerning the notice of data availability should be directed to Kevin Culligan, Office of Atmospheric Programs, Clean Air Markets Division, 6204M, 1200 Pennsylvania Ave. NW, Washington, DC 20460, telephone (202) 564-9172, e-mail culligan.kevin@epa.gov; or Howard J. Hoffman, Office of General Counsel, 2344A, 1200 Pennsylvania Ave. NW, Washington, DC 20460, telephone (202) 564-5582, e-mail hoffman.howard@epa.gov. General questions about the Section 126 Rule or the NOX SIP Call may be directed to Carla Oldham, Office of Air Quality Planning and Standards, Air Quality Strategies and Standards Division, MD-15, Research Triangle Park, NC, 27711, telephone (919) 541-3347, e-mail oldham.carla@epa.gov.

SUPPLEMENTARY INFORMATION:

Submitting Electronic Comments

Electronic comments are encouraged and can be sent directly to EPA at A-and-R-Docket@epa.gov. Electronic comments must be submitted as an ASCII file avoiding the use of special characters and any form of encryption. Comments will also be accepted on disks in WordPerfect 8.0 or ASCII file format. All comments in electronic form must be identified by Docket No. A-96-56 for the NOX SIP Call and Docket No. A-97-43 for the Section 126 Rule. Electronic comments may be filed online at many Federal Depository Libraries.

Extension of Comment Period

In the August 3, 2001 notice of data availability, EPA provided notice that it had placed in the dockets for the two main rulemakings concerning ozone-smog transport in the eastern part of the United States-the Nitrogen Oxides State Implementation Plan Call ( NOX SIP Call) and the Section 126 Rule—data relevant to the remands by the U.S. Court of Appeals for the District of Columbia Circuit (D.C. Circuit) concerning growth rates for seasonal heat input by electric generating units (EGUs). In both the NOX SIP Call and Section 126 rulemakings, EPA determined control obligations with respect to EGUs through the same computation, which included, as one component, estimates of growth in heat input by the EGUs from 1996 to 2007. In two cases decided earlier this year challenging the Section 126 rulemaking and a pair of rulemakings that made technical corrections to the NOX SIP Call, the D.C. Circuit considered challenges to EPA's calculation of the growth estimate and its use of growth factors. In virtually identical decisions, the Court remanded the growth component to EPA for a better response to certain data presented by the affected States and industry concerning actual heat input, and for a better explanation of EPA's methodology. The EPA is in the process of responding to those remands. The EPA's preliminary view is that its growth calculations were reasonable and can be supported with a more robust explanation, based on the existing record, that takes into account the Court's concerns. In addition, EPA is considering new data that have recently been placed in the dockets for the NOX SIP Call and Section 126 Rule. These new data appear to confirm the reasonableness of the growth calculations. The EPA intends to complete its response to the Court's remands in November 2001.

The EPA originally provided a 30-day period for the public to comment on these new data. In response to requests from the Utility Air Regulatory Group and the State of Illinois, EPA is extending the comment period for an additional 15 days. Please refer to the August 3, 2001 notice for a description of the data on which EPA is soliciting comment.

Dated: August 31, 2001.
John Seitz,
Director, Office of Air Quality Planning and Standards.

[FR Doc. 01-23081 Filed 9-13-01; 8:45 am]

BILLING CODE 6560-50-P